COMMODITY FUTURES TRADING COMMISSION

Sunshine Act, Meeting

Federal Register Citation of Previous Announcement: 68 FR 68875.

Previously Announced Time and Date of the Meeting: 1 p.m., Wednesday, December 17, 2003.

Changes in the Meeting: The open hearing to receive testimony from industry participants relating to the Commission's consideration of the application of U.S. Futures Exchange, LLC, for contract market designation has been cancelled.

FOR FURTHER INFORMATION CONTACT: Jean A. Webb, (202) 418-5100.

Jean A. Webb,
Secretary of the Commission.

[FR Doc. 03-30915 Filed 12-10-03; 8:45 am]

BILLING CODE 6351-01-M